DEPARTMENT OF ENERGY

Federal Energy Regulatory Commission

[Project No. 13305-002]

Whitestone Power and Communications; Notice of Teleconference

a. Date and Time of Meeting: Tuesday, February 21, 2012, starting at 2 p.m. and ending at 4 p.m. (Eastern Standard Time).

b. FERC Contact: Dianne Rodman, (202) 502-6077 or dianne.rodman@ferc.gov.

c. Purpose of Meeting: Commission staff will meet with Whitestone Power and Communications (Whitestone) to discuss the need for environmental monitoring for the Microturbine Hydrokinetic River-In-Stream Energy Conversion Power Project (also known as the Whitestone Poncelet RISEC Project), which would be located on the Tanana River near Delta Junction, Alaska.

d. All local, state, and federal agencies, Indian tribes, and other interested parties are invited to participate by phone. Please call Dianne Rodman by February 16, 2012, to RSVP and to receive specific instructions on how to participate.

Dated: February 10, 2012.
Nathaniel J. Davis, Sr.,
Deputy Secretary.

[FR Doc. 2012-3632 Filed 2-15-12; 8:45 am]

BILLING CODE 6717-01-P